DEPARTMENT OF EDUCATION

National Mathematics Advisory Panel

AGENCY: U.S. Department of Education, National Mathematics Advisory Panel.

ACTION: Notice of Open Meeting and Public Hearing.

SUMMARY: This notice sets forth the schedule and proposed agenda of an upcoming meeting, including a public hearing, with members of the National Mathematics Advisory Panel. The notice also describes the functions of the Panel. Notice of this meeting is required by section 10(a)(2) of the Federal Advisory Committee Act and is intended to notify the public of their opportunity to attend.

DATES: Wednesday, November 28, 2007.

Time: 8:30 a.m.-3 p.m.

ADDRESSES: Baltimore-Washington International (BWI) Airport Marriott, 1743 West Nursery Road, Baltimore, MD 21240.

FOR FURTHER INFORMATION CONTACT: Tyrrell Flawn, Executive Director, National Mathematics Advisory Panel, 400 Maryland Avenue, SW., Washington, DC 20202; telephone: (202) 260-8354.

Individuals who use a telecommunications device for the deaf (TDD) may call the Federal Information Relay Service (FRS) at 1-800-877-8339.

SUPPLEMENTARY INFORMATION: The Panel was established by Executive Order 13398. The purpose of this Panel is to foster greater knowledge of and improved performance in mathematics among American students, in order to keep America competitive, support American talent and creativity, encourage innovation throughout the American economy, and help State, local, territorial, and tribal governments give the nation's children and youth the education they need to succeed.

The meeting will be held at the Baltimore-Washington International (BWI) Airport Marriott in Baltimore, MD, on Wednesday, November 28, 2007, from 8:30 a.m. to 3 p.m. From 8:30 a.m. to 11:30 a.m. and again from 1 p.m. to 3 p.m. the Panel will discuss the Final Report draft. Individuals interested in attending the meeting are advised to register in advance to ensure space availability. Please contact Jennifer Graban at Jennifer.Graban@ed.gov by Wednesday, November 21, 2007.

This meeting will not include a public comment session, as the Panel will be concluding its work on the Final Report. However, if you would like to provide comments to the Panel, please do so in written form, via e-mail at NationalMathPanel@ed.gov, by Wednesday, November 21, 2007. Written comments will also be accepted at the meeting site. Please note that comments submitted to the National Mathematics Advisory Panel in any format are considered to be part of the public record of the Panel's deliberations, and will be posted on the Web site.

The Panel has submitted its Preliminary Report to the President, through the U.S. Secretary of Education. The Preliminary Report is available at http://www.ed.gov/mathpanel. The Final Report will be submitted not later than February 28, 2008, and will, at a minimum, contain recommendations on improving mathematics education based on the best available scientific evidence.

The meeting site is accessible to individuals with disabilities. Individuals who will need accommodations in order to attend the meeting, such as interpreting services, assistive listening devices, or materials in alternative format, should notify Jennifer Graban at Jennifer.Graban@ed.gov no later than Wednesday, November 21, 2007. We will attempt to meet requests for accommodations after this date, but cannot guarantee their availability.

Records are kept of all Panel proceedings and are available for public inspection at the staff office for the Panel, from the hours of 9 a.m. to 5 p.m., Monday through Friday.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: November 7, 2007.
Margaret Spellings,
Secretary, U.S. Department of Education.

[FR Doc. E7-22132 Filed 11-9-07; 8:45 am]

BILLING CODE 4000-01-P